DEPARTMENT OF THE INTERIOR

Fish and Wildlife Service

[FWS-R1-ES-2017-N151; FXES11130100000-189-FF01E00000]

U.S. Endangered Species; Receipt of Recovery Permit Applications

AGENCY: Fish and Wildlife Service, Interior.

ACTION: Notice of receipt of permit applications; request for comments.

SUMMARY: We, the U.S. Fish and Wildlife Service, invite the public to comment on applications for permits to conduct activities intended to enhance the propagation or survival of endangered species. With some exceptions, the Endangered Species Act (ESA) prohibits certain activities that constitute take of listed species unless a Federal permit is issued that allows such activity. The ESA also requires that we invite public comment before issuing these permits.

DATES: To ensure consideration, we must receive your written comments by January 10, 2018.

ADDRESSES: Requesting Copies of Applications or Public Comments: Copies of applications or public comments concerning any of the applications in this notice may be obtained by any party who submits a written request for a copy of such documents to the following office within 30 days of the date of publication of this notice, subject to the requirements of the Privacy Act (5 U.S.C. 552a) and the Freedom of Information Act (5 U.S.C. 552): Program Manager, Restoration and Endangered Species Classification, Ecological Services, U.S. Fish and Wildlife Service, Pacific Regional Office, 911 NE 11th Avenue, Portland, OR 97232-4181.

Submitting Comments: You may submit comments by one of the following methods. Please specify applicant name(s) and application number(s) to which your comments pertain (e.g., TE-XXXXXX).

• Email: permitsR1ES@fws.gov. Please refer to the respective permit number (e.g., Application No. TE-XXXXXX) in the subject line of your email message.

• U.S. Mail: Program Manager, Restoration and Endangered Species Classification, Ecological Services, U.S. Fish and Wildlife Service, Pacific Regional Office, 911 NE 11th Avenue, Portland, OR 97232-4181.

FOR FURTHER INFORMATION CONTACT: Colleen Henson, Recovery Permits Coordinator, Ecological Services, (503) 231-6131 (phone); permitsR1ES@fws.gov (email).

SUPPLEMENTARY INFORMATION: We, the U.S. Fish and Wildlife Service (Service), invite the public to comment on applications for permits to conduct activities intended to promote recovery of endangered species. With some exceptions, the ESA prohibits certain activities with endangered species unless a Federal permit allows such activity. The ESA also requires that we invite public comment before issuing these permits.

Background

The ESA prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, Tribes, Federal agencies and the public to comment on the following applications.

Application No. | Applicant | Species | Location | Take activity | Permit action
TE-043638 | U.S. Army Garrison, Hawaii | Add the following species: Pleomele forbesii (hala pepe), Cyanea calycina (haha), Joinvillea ascendens ascendens (`ohe), Korthalsella degeneri (hulumoa), Melicope christophersenii (alani), Melicope makahae (alani), Nothocestrum latifolium (`aiea), Platydesma cornuta decurrens (no common name), Pteralyxia macrocarpa (kaulu), Sicyos lanceoloideus (no common name), Orangeblack Hawaiian damselfly (Megalagrion xanthomelas), Anthricinan yellow-faced bee (Hylaeus anthracinus), Assimulans yellow-faced bee (Hylaeus assimulans), Easy yellow-faced bee (Hylaeus facilis), Hawaiian yellow-faced bee (Hylaeus kuakea), Hawaiian yellow-faced bee (Hylaeus longiceps), Hawaiian yellow-faced bee (Hylaeus mana) | Hawaii | Plants: Remove and reduce to possession, collect, propagate, outplant, establish genetic storage bank Animals: Harass by survey, monitor, capture, identify, mark, release, collect, provide nest blocks | Renew.
TE-72088A | National Oceanic and Atmospheric Administration Pacific Islands Fisheries Science Center, Honolulu, Hawaii | Green sea turtle (Chelonia mydas), Hawksbill sea turtle (Eretmochelys imbricata), Leatherback sea turtle (Dermochelys coriacea), Loggerhead sea turtle (Caretta caretta), Olive ridley sea turtle (Lepidochelys olivacea) | Hawaiian Islands, American Samoa Islands, Guam, Commonwealth of the Northern Mariana Islands, Federated States of Micronesia, Republic of the Marshall Islands, Republic of Palau, and Pacific Remote Islands Areas | Harass by survey, monitor, capture, hold, excavate nests, collect eggs, biosample, identify, tag, deploy data loggers in nests, attach biotelemetry devices and satellite transmitters, release, recapture, research, salvage | Renew.
TE-53969C | University of Hawaii, Hilo, Hawaii | Bidens micrantha ssp. ctenophylla (Ko`oko`olau) | Hawaii | Remove and reduce to possession; collect tissue, photograph | New.

Public Availability of Comments

Before including your address, phone number, email address, or other personal identifying information in your comment, you should be aware that your entire comment—including your personal identifying information—may be made publicly available at any time. If you submit a hardcopy comment that includes personal identifying information, you may request at the top of your document that we withhold this information from public review; however, we cannot guarantee that we will be able to do so.

Contents of Public Comments

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations.

Next Steps

If the Service decides to issue permits to any of the applicants listed in this notice, we will publish a notice in the Federal Register.

Authority: Section 10(c) of the Endangered Species Act of 1973, as amended (16 U.S.C. 1531 et seq.).

Dated: October 26, 2017.
Rolland G. White,
Assistant Regional Director—Ecological Services, Pacific Region, U.S. Fish and Wildlife Service.

[FR Doc. 2017-26616 Filed 12-8-17; 8:45 am]

BILLING CODE 4333-15-P